DEPARTMENT OF LABOR

Employment and Training Administration

[TA-W-72,949]

Western Digital Technologies, Inc., Corporate Headquarters/Hard Drive Development Division, Lake Forest, CA; Notice of Affirmative Determination Regarding Application for Reconsideration

By application dated September 14, 2010, workers requested administrative reconsideration of the negative determination regarding workers' eligibility to apply for Trade Adjustment Assistance (TAA) applicable to workers and former workers of the subject firm. The Department's Notice of negative determination was issued on August 5, 2010 and published in the Federal Register on August 23, 2010 (75 FR 51849). The workers are engaged in activity related to the supply of engineering services.

The negative determination was based on the findings that the subject firm did not increase imports services supplied by the worker's firm and that there has not been a shift to a foreign country in the supply of services by the subject firm. The investigation also revealed that the subject firm does not supply a service that was directly used in the production of an article by a firm that employed a worker group eligible to apply for TAA.

The request for reconsideration alleges that increased imports of articles (disk drives) that were produced directly using the services supplied by the subject workers (engineering) contributed importantly to separations at the subject firm.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26901 Filed 10-22-10; 8:45 am]

BILLING CODE 4510-FN-P